DEPARTMENT OF ENERGY

Federal Energy Regulatory Commission

[Docket No. RP00-213-000]

Colorado Interstate Gas Company, Colorado Springs Utilities, Public Service Company of Colorado, and Cheyenne Light, Fuel and Power Company v. Amoco Production Company, Antares Oil Corporation/Oxford Consolidated, Inc., Atlantic Richfield Company, Banks Oil Company, Beymer and Beymer, Inc., Calvin Exploration, Inc., Colony Energy Corporation, Edwin L. & Berry R. Cox, Ensource Inc., W.L. Hartman, W.L. Hartman Trust, Inter-American Energy Corp., K&E Drilling Company, Inc., Kimbark Oil & Gas Co., Jay Kornfeld, La Jolla Properties, Inc., R.W. Lange, Mapco Oil & Gas Company, Northern Pump Company, Osborn Heirs Company, Resource Tax Group, Shannon Energy Corporation, Sunburst Exploration Company, Thompson Cattle Co., Albert A. Thornbrough, Union Pacific Resources Company (formerly Champlin Petroleum Company), Walter Kuhn Drilling Company, White & Johnson, L.L.P., Edgar J. White, and Woods Petroleum Corporation; Notice of Complaint

March 10, 2000.

Take notice that on March 8, 2000, Colorado Interstate Gas Company, Colorado Springs Utilities, Public Service Company of Colorado, and Cheyenne Light, Fuel, and Power Company (collectively Complainants) filed with the Federal Energy Regulatory Commission (Commission) a complaint against Amoco Production Company, et al. (Amoco et al.) pursuant to 18 CFR 385.206. According to Complainants, Amoco et al. were operators of natural gas wells to whom CIG paid reimbursements of the Kansas ad valorem tax after October 4, 1983, a tax that the Commission and the United States Court of Appeals have held not to be an eligible add-on under Section 110 of the Natural Gas Policy Act. Complainants allege that Amoco et al. have not complied with Commission orders requiring Amoco et al. to furnish CIG with working interest owner data necessary to allow CIG to prepare invoices for refunds of the Kansas ad valorem tax. Some of the operators that comprise Amoco et al. have provided no working interest owner data at all; others have provided only partial data. According to Complainants, efforts by the Commission and efforts by CIG have failed to prompt Amoco et al. to provide the necessary data. According to Complainants, the lack of the needed data has severely hindered CIG's ability to recover and flow back to its former sales customers the illegal collections.

Complainants ask the Commission to use whatever enforcement tools are available to the Commission to ensure that Amoco et al. provide CIG with the necessary data. These tools include holding non-complying operators responsible for the full amount of the refund as reflected in CIG's November 1997 Statement of Refunds Due in Docket No. RP98-54.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before March 28, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 28, 2000.

David P. Boergers,
Secretary.

[FR Doc. 00-6453 Filed 3-15-00; 8:45 am]

BILLING CODE 6717-01-M